DEPARTMENT OF HOMELAND SECURITY

Coast Guard

33 CFR Part 165

[Docket No. CGD09-07-109]

Security Zone: Captain of the Port Sault Ste. Marie Zone

AGENCY: Coast Guard, DHS.

ACTION: Notice of enforcement.

SUMMARY: The Coast Guard is enforcing a security zone approximately one quarter mile on each side of the Mackinac Bridge in the Straits of Mackinac near Mackinaw City, MI. The purpose of this security zone is to protect pedestrians and vessels during the event from vessel to bridge collision. The security zone will place navigational and operational restrictions on all vessels transiting through the Straits area, under and around the Mackinac Bridge, located between Mackinaw City, MI, and St. Ignace, MI.

DATES: This rule is effective from 6 a.m to 11:59 a.m. on September 3, 2007.

FOR FURTHER INFORMATION CONTACT: LCDR Christopher R. Friese, Prevention Dept. Chief, Sector Sault Ste. Marie, 337 Water St, Sault Ste. Marie, MI 49783; (906) 635-3220.

SUPPLEMENTARY INFORMATION: The Coast Guard is enforcing the permanent security zone in 33 CFR 165.928 for the Mackinac Bridge Walk on Labor Day, September 3, 2007. The following security zone is in effect for September 3, 2007:

(1) Mackinac Bridge Walk.

Location: All waters enclosed by a line connecting the following points: 45°50.763N: 084°43.731W, which is the northwest corner; then east to 45°50.705N: 084°43.04W, which is the northeast corner; then south to 45°47.242N: 084°43.634W, which is the southeast corner; then west to 45°47.30N: 084°44.320W, which is the southwest corner; then north to the point of origin. [DATUM: NAD 1983]. The zone described above includes all waters on either side of the Mackinac Bridge within one-quarter mile of the bridge.

In order to ensure the safety of spectators and transiting vessels, this security zone will be in effect for the duration of the event. In the event that this security zone affects shipping, commercial vessels may request permission from the Captain of the Port Sault Ste. Marie to transit through the security zone. Requests must be made in advance and approved by the Captain of Port before transits will be authorized. The Captain of the Port may be contacted via U.S. Coast Guard Sector Sault Ste. Marie on channel 16, VHF-FM. The Coast Guard will give notice to the public via a Broadcast to Mariners that the regulation is in effect.

Dated: August 3, 2007.
M.J. Huebschman,
Captain, U.S. Coast Guard, Captain of Port Sault Ste. Marie.

[FR Doc. E7-16205 Filed 8-16-07; 8:45 am]

BILLING CODE 4910-15-P